DEPARTMENT OF ENERGY

Federal Energy Regulatory Commission

Combined Notice of Filings

Take notice that the Commission has received the following Natural Gas Pipeline Rate and Refund Report filings:

Filings Instituting Proceedings

Docket Numbers: RP23-357-000.

Applicants: LA Storage, LLC.

Description: § 4(d) Rate Filing: Filing of Negotiated Rate, Conforming IW Agreement 1.13.23 to be effective 1/16/2023.

Filed Date: 1/13/23.

Accession Number: 20230113-5148.

Comment Date: 5 p.m. ET 1/25/23.

Docket Numbers: RP23-358-000.

Applicants: Spire STL Pipeline LLC.

Description: Compliance filing: Spire STL Cost and Revenue Study re CP17-40-000 to be effective N/A.

Filed Date: 1/13/23.

Accession Number: 20230113-5249.

Comment Date: 5 p.m. ET 1/25/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2023.
Debbie-Anne A. Reese,
Deputy Secretary.

[FR Doc. 2023-01177 Filed 1-20-23; 8:45 am]

BILLING CODE 6717-01-P